DEPARTMENT OF COMMERCE

Foreign-Trade Zones Board

[Docket 29-2003]

Wacker Chemical Corporation—Application for Subzone Status; Amendment of Application and Extension of Comment Period

The application for subzone status at the Wacker Chemical Corporation in Adrian, Michigan, submitted by the Greater Detroit Foreign-Trade Zone, Inc. (68 FR 38009, 6/26/03), has been amended. The company is amending the application to add masterbatch materials and a compound plasticizer to the finished product list (HTS 3204.14, 3204.17 and 3812.30, duty rate ranges from duty-free to 7.8%).

The comment period for the case referenced above is being extended to November 26, 2003, to allow interested parties additional time in which to comment. Rebuttal comments may be submitted during the subsequent 15 day period, until December 11, 2003. Submissions (original and 3 copies) shall be addressed to the Board's Executive Secretary at one of the following addresses:

1. Submissions Via Express/Package Delivery Services: Foreign-Trade-Zones Board, U.S. Department of Commerce, Franklin Court Building—Suite 4100W, 1099 14th St. NW, Washington, DC 20005; or

2. Submissions Via the U.S. Postal Service: Foreign-Trade-Zones Board, U.S. Department of Commerce, FCB—Suite 4100W, 1401 Constitution Ave. NW, Washington, DC 20230.

Dated: October 20, 2003.
Dennis Puccinelli,
Executive Secretary.

[FR Doc. 03-27380 Filed 10-29-03; 8:45 am]

BILLING CODE 3510-DS-P